DEPARTMENT OF EDUCATION

[Docket ID ED-2022-IES-0046]

Privacy Act of 1974; System of Records—National Center for Education Statistics (NCES) Longitudinal, Cross-Sectional, and International Studies

AGENCY: National Center for Education Statistics, Institute of Education Sciences, Department of Education.

ACTION: Notice of a Modified System of Records; correction.

SUMMARY: On January 18, 2023, the Department of Education published in the Federal Register a notice of a modified system of records (SORN) for the NCES Longitudinal, Cross-Sectional, and International Studies. We are correcting the docket ID provided in that notice. All other information in the SORN, including the February 17, 2023, deadline for public comments, remains the same.

DATES: We must receive your comments on or before February 17, 2023.

Correction

In FR Doc. No. 2023-00768, in the Federal Register published on January 18, 2023 (88 FR 2896), we make the following correction:

On Page 2896, in the third column, above the title of the Federal Register notice, Privacy Act of 1974; System of Records—National Center for Education Statistics (NCES) Longitudinal, Cross-Sectional, and International Studies, revise the docket ID to read: ED-2022-IES-0046.

FOR FURTHER INFORMATION CONTACT: Carrie Clarady, National Center for Education Statistics, Institute of Education Sciences, U.S. Department of Education, PCP, 550 12th Street SW, 4th floor, Washington, DC 20202-4160. Telephone: (202) 245-6347. Email: NCES.Information.Collections@ed.gov.

If you are deaf, hard of hearing, or have a speech disability and wish to access telecommunications relay services, please dial 7-1-1.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Mark Schneider,
Director, Institute of Education Sciences.

[FR Doc. 2023-01466 Filed 1-24-23; 8:45 am]

BILLING CODE 4000-01-P